DEPARTMENT OF ENERGY

Federal Energy Regulatory Commission

[Project No. 2839-015]

Notice of Application Tendered For Filing With the Commission, Soliciting Additional Study Requests, and Establishing Procedural Schedule for Relicensing and a Deadline for Submission of Final Amendments; Village of Lyndonville Electric Department

Take notice that the following hydroelectric application has been filed with the Commission and is available for public inspection.

a. Type of Application: Subsequent Minor License.

b. Project No.: 2839-015.

c. Date filed: May 26, 2017.

d. Applicant: Village of Lyndonville Electric Department.

e. Name of Project: Great Falls Hydroelectric Project.

f. Location: On the Passumpsic River, in the Town of Lyndonville, Caledonia County Vermont. The project does not occupy lands of the United States.

g. Filed Pursuant to: Federal Power Act 16 U.S.C. 791(a)-825(r).

h. Applicant Contact: Mr. Bill Humphrey, Village of Lyndonville Electric Department, 119 Park Avenue, Lyndonville, VT 05851; (802) 626-3366.

i. FERC Contact: Bill Connelly, (202) 502-8587 or william.connelly@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 25, 2017.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2839-015.

m. The application is not ready for environmental analysis at this time.

n. The existing Great Falls Hydroelectric Project consists of: (1) A 160-foot-long, 32-foot-high curved, concrete dam with 2-foot-high flashboards; (2) an approximately 12-acre impoundment having a storage capacity of 135-acre-feet at a normal maximum elevation of 668.38 feet above mean sea level; (3) an 18.5-foot-wide headworks structure with two headgates; (4) a 290-foot-long partially covered, power canal; (5) a gatehouse with two 15-foot-wide trashracks with 1.5-inch clear spacing; (6) a 200-foot-long, 6- to 10-foot-diameter metal penstock that bifurcates before entering two powerhouses; (7) a 47-foot-long, 25-foot-wide powerhouse containing a 1,350 kilowatt (kW) horizontal turbine-generator unit and a 40-foot-long, 40-foot-wide powerhouse containing two 350 kW horizontal turbine-generator units for a total capacity of 2,050 kW; (8) a 350-foot-long, 2.4-kilovolt (kV) above-ground generator lead that connects the turbine-generator units to a step-up transformer; (9) a 1.75-mile-long, 12.5-kV above-ground transmission line; and (10) appurtenant facilities.

The Village of Lyndonville Electric Department operates the project in a run-of-river mode with an annual average generation of approximately 3,960 megawatt-hours. The Village of Lyndonville Electric Department is not proposing any new project facilities or changes in project operation.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are designating Lyndonville Electric Department as the Commission's non-federal representative for carrying out informal consultation pursuant to section 7 of the Endangered Species Act and consultation pursuant to section 106 of the National Historic Preservation Act.

q. Procedural schedule and final amendments: The application will be processed according to the following preliminary Hydro Licensing Schedule. Revisions to the schedule will be made as appropriate.

Issue Acceptance or Deficiency Letter—August 2017

Request Additional Information—August 2017

Issue Acceptance Letter—November 2017

Issue Scoping Document 1 for Comments—December 2017

Request Additional Information (if necessary)—February 2018

Issue Scoping Document 2—March 2018

Issue notice of ready for environmental analysis—March 2018

Commission issues EA or draft EA—September 2018

Comments on EA or draft EA—October 2018

Commission issues final EA—December 2018

Final amendments to the application must be filed with the Commission no later than 30 days from the issuance date of the notice of ready for environmental analysis.

Dated: June 5, 2017.
Kimberly D. Bose,
Secretary.

[FR Doc. 2017-12053 Filed 6-9-17; 8:45 am]

BILLING CODE 6717-01-P